DEPARTMENT OF AGRICULTURE

Natural Resources Conservation Service

Task Force on Agricultural Air Quality

AGENCY: Natural Resources Conservation Service, USDA.

ACTION: Notice of meeting.

SUMMARY: The renewed Task Force on Agricultural Air Quality will have its initial meeting to identify critical issues that it will address during calendar year 2001. Special emphasis will be placed on obtaining a better understanding about the relationship between agricultural production and air quality. The meeting is open to the public.

DATES: The meeting will convene on Tuesday, March 27, 2001, at 9 a.m., and continue until 4 p.m. The meeting will resume Wednesday, March 28, from 9 a.m. to 4 p.m. Written material and requests to make oral presentations should reach the Natural Resources Conservation Service, at the address below, on or before March 16, 2001.

ADDRESSES: The meeting will be held at the Hall of States, 444 North Capitol Street, N.W., Room 333/335, Washington, DC 20001; telephone: (202) 624-8588. Written material and requests to make oral presentations should be sent to George Bluhm, University of California, Land, Air, and Water Resources, 151 Hoagland Hall, Davis, California 95616-6827.

FOR FURTHER INFORMATION CONTACT: Questions or comments should be directed to George Bluhm, Designated Federal Official; telephone: (503) 752-1018; fax: (530) 752-1552; email: bluhm@crocker.ucdavis.edu.

SUPPLEMENTARY INFORMATION: Notice of this meeting is given under the Federal Advisory Committee Act, 5 U.S.C. App. 2. Additional information about the Task Force on Agricultural Air Quality, including any revised agenda for the March 27 and 28 meeting that occurs after this Federal Register notice is published, may be found on the World Wide Web at http://www.nhq.nrcs.usda.gov/faca/aaqtf.html.

Draft Agenda of the March 27 and 28 Meeting

A. Welcome to Washington, DC

1. Department of Agriculture (USDA) Official

2. Environmental Protection Agency (EPA) Official

B. Introduction of Members

C. Approve Minutes of the July 18-19, 2000, AAQTF Meeting

D. Review Task Force Charter, FACA Rules and Procedures

E. Review Previous Task Force Accomplishments

1. Memorandum of Understanding between USDA and EPA;

2. Concentrated animal feeding operations and emission factors;

3. Agricultural air quality research priorities and oversight;

4. Guidance for an agricultural residue burning policy; and

5. Voluntary air quality compliance program for agriculture.

F. Update of Ongoing Agricultural Air Quality Research

1. USDA

2. EPA

G. Establish Task Force Priorities for 2001

H. Organization of the Necessary Task Force Action Committees

I. Public Input (Time will be reserved, before lunch and at the close of each daily session, to receive public comment. Individual presentations will be limited to 5 minutes).

Procedural

This meeting is open to the public. At the discretion of the Chair, members of the public may present oral presentations during the meeting. Persons wishing to make oral presentations should notify George Bluhm no later than March 16, 2001. If a person submitting material would like a copy distributed to each member of the committee in advance of the meeting, that person should submit 25 copies to George Bluhm no later than March 16, 2001.

Information on Services for Individuals With Disabilities

For information on facilities or services for individuals with disabilities, or to request special assistance at the meeting, contact George Bluhm.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (braille, large print, audio tape, etc.) should contact the USDA's Target Center at (202) 720-2000 (voice and TDD).

To file a complaint of discrimination to USDA, write to Director, Office of Civil Rights, Room 326-W, Whitten Building, 1400 Independence Avenue, SW, Washington, DC 20250-9410; or call (202) 720-5964 (voice and TDD). The USDA is an equal opportunity provider and employer.

Signed in Washington, DC, on February 12, 2001.
Pearlie S. Reed,
Chief, Natural Resources Conservation Service.

[FR Doc. 01-5756 Filed 3-7-01; 8:45 am]

BILLING CODE 3410-16-M